FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 28, 2021.

A. Federal Reserve Bank of Chicago (Colette A. Fried, Assistant Vice President) 230 South LaSalle Street, Chicago, Illinois 60690-1414:

1. The Dean A. Holmes General Trust, Dean Holmes, as trustee, The Arlene E. Holmes General Trust, Arlene E. Holmes, as trustee, and Neil Holmes, all of Lena, Illinois; Craig Holmes, Pearl City, Illinois; David Holmes, Erie, Pennsylvania; Kevin Holmes, Mesa, Arizona; and Kay Overson, San Diego, California; to become the Holmes family control group, a group acting in concert, to retain voting shares of First Lena Corporation, and thereby indirectly retain voting shares of Citizens State Bank, both of Lena, Illinois.

B. Federal Reserve Bank of Kansas City (Jeffrey Imgarten, Assistant Vice President) 1 Memorial Drive, Kansas City, Missouri 64198-0001:

1. Leslie Vezner, Lewisville, Texas; to retain voting shares of Nebraska Bankshares, Inc., and thereby indirectly retain voting shares of First State Bank, both of Farnam, Nebraska.

C. Federal Reserve Bank of Dallas (Karen Smith, Director, Applications) 2200 North Pearl Street, Dallas, Texas 75201-2272:

1. James Cook, San Antonio, Texas; the Sue Craft McMahan Trust, Sue Craft McMahan, individually, and as trustee, both of Austin, Texas; the Clint Creighton Craft Trust, Clint Creighton Craft, as trustee, both of Celina, Texas; Malinda R. Crumley, Kay R. Murphey, and Malinda Murphey Cowan, all of Fort Worth, Texas; Bryan Bumpas, Margaret Sue Cherryhomes, Jerry Craft, Debbie J. Reaves, Karen Buckley Rumage, Paula Williams, Mallory Tolleson, Jerry Graybill, and the Amended and Restated Voting Trust Agreement, C. Blain Rumage, individually, and as trustee, all of Jacksboro, Texas; the Davis Revocable Trust, Danna Ritter, as trustee, both of La Vernia, Texas; the Jay David Craft Trust, Jay David Craft, as trustee, both of Christiansted, Virgin Islands; Dayna Geer Gunter, Azle, Texas; Charles Tyson, Bellevue, Texas; Alan Miller, Bowie, Texas; Willis G. Stamper, Jr., Frisco, Texas; William W. Rumage, Gunter, Texas; Jennifer Louise Stayton, Murphy, Texas; Stephen Stamper, Wichita Falls, Texas; James Rhodes Murphey and Emily Loomis Murphey, both of Willow Park, Texas; Craig Anderle, Windthorst, Texas; and Stella Jeanette McClure Matthews, Medford, Oregon; to join Edwin C. Rumage, and to become members of the Voting Trust Control Group, a group acting in concert, to retain voting shares of Jacksboro National Bancshares, Inc., and thereby indirectly retain voting shares of Jacksboro National Bank, both of Jacksboro, Texas.

Board of Governors of the Federal Reserve System, October 7, 2021.
Ann E. Misback,
Secretary of the Board.

[FR Doc. 2021-22261 Filed 10-12-21; 8:45 am]

BILLING CODE P